DEPARTMENT OF TRANSPORTATION

Federal Highway Administration

Establishment of the National Freight Network

AGENCY: Federal Highway Administration (FHWA), DOT.

ACTION: Notice.

SUMMARY: This notice defines the planned process for the designation of the national freight network as required by Section 1115 of the Moving Ahead for Progress in the 21st Century Act (MAP-21). This notice defines the process for the initial designation of the primary freight network, the designation of additional miles critical to future efficient movement of goods on the primary freight network, and how data on the State-designated critical rural freight corridors will be collected.

FOR FURTHER INFORMATION CONTACT: For questions about the program discussed herein, contact Ed Strocko, FHWA Office of Freight Management and Operations, (202) 366-2997, or via email at ed.strocko@dot.gov. For legal questions, please contact Michael Harkins, FHWA Office of the Chief Counsel, (202) 366-4928, or via email at Michael.Harkins@dot.gov. Business hours for the FHWA are from 8:00 a.m. to 4:30 p.m., e.t., Monday through Friday, except Federal holidays.

SUPPLEMENTARY INFORMATION:

Electronic Access

You may retrieve a copy of the notice through the Federal eRulemaking portal at: http://www.regulations.gov. The Web site is available 24 hours each day, every day of the year. Electronic submission and retrieval help and guidelines are available under the help section of the Web site.

An electronic copy of this document may also be downloaded from Office of the Federal Register's home page at: http://www.archives.gov/federal_register and the Government Printing Office's Web page at: http://www.gpoaccess.gov.

Background

Freight in America travels over an extensive multimodal network of highways, railroads, waterways, pipelines, and airways. Freight moves throughout the United States on 985,000 miles of Federal-aid highways, 141,000 miles of railroads, 11,000 miles of inland waterways, and 1.6 million miles of pipelines. There are over 19,000 airports in the United States, with approximately 540 serving commercial operations, and over 5,000 coastal, Great Lakes, and inland waterway facilities moving cargo.

A significant portion of the freight moved in the United States travels on multiple modes of transportation to reach its final destination. While specific commodities are likely to use a particular mode or series of modes to be moved, a complex multimodal system is required to fully meet the growing volume of bulk and high velocity/high value goods in the United States. Each component of the freight transportation system must work in concert with each other to meet the day-to-day demands of commerce.

Section 167(c) of title 23 United States Code (U.S.C.), which was established in Section 1115 of MAP-21, directs the Secretary to establish a national freight network to assist States in strategically directing resources toward improved system performance for efficient movement of freight on the highway portion of the Nation's freight transportation system. This includes the National Highway System, freight intermodal connectors, and aerotropolis ¹ transportation systems.

¹ Aerotropolis transportation systems means a planned and coordinated multimodal freight and passenger transportation network that, as determined by the Secretary, provides efficient, cost-effective, sustainable, and intermodal connectivity to a defined region of economic significance centered around a major airport.

Under 23 U.S.C. 167(c), the national freight network will consist of the primary freight network, the portions of the Interstate System not designated as part of the primary freight network, and critical rural freight corridors. The designation of the primary freight network will be based on an inventory of national freight volume conducted by the Administrator of the Federal Highway Administration, in consultation with stakeholders, including system users, transport providers, and States. The primary freight network will be comprised of not more than 27,000 centerline miles of existing roadways that are most critical to the movement of freight, but the 27,000 mile cap may be increased by an additional 3,000 centerline miles of existing and planned roadways that the Secretary deems critical to the future efficient movement of goods on the primary freight network.

The MAP-21 also establishes the policy of the United States to improve the condition and performance of this national freight network to ensure that it provides the foundation for the United States to compete in the global economy and achieve the goals of the national freight policy. Consistent with the national freight policy, strategies to improve system performance on the national freight network should consider solution sets that effectively integrate the entire freight transportation system, including non-highway modes of freight transport, in order to maximize the efficiency of the national freight network.

Purpose of This Notice

The purpose of this notice is threefold: (1) To provide to stakeholders the planned process and criteria for the designation of not more than 27,000 centerline miles for the primary freight network, (2) to describe the principles and factors to be used for the designation of up to 3,000 additional centerline miles critical to future efficient movement of goods on the primary freight network, and (3) to establish how data for the State-designated critical rural freight corridors will be collected.

Primary Freight Network Designation

The designation of the primary freight network will be based on measureable and objective data, including: origins and destinations of freight movements; total freight tonnage and value of freight moved by highways; percentage of annual average daily truck traffic (AADTT) in the annual average daily traffic (AADT) on principal arterials; AADTT on principal arterials; land and maritime ports of entry; access to energy exploration, development, installation, or production areas; population centers; and network connectivity. The analysis will primarily use data from the Freight Analysis Framework maintained by the U.S. Department of Transportation (DOT). Other DOT modal agencies including the Federal Railroad Administration, Maritime Administration, Pipeline and Hazardous Materials Safety Administration, Federal Aviation Administration, and Bureau of Transportation Statistics will be consulted and other data will be incorporated into the analysis. Multiple scenarios will be analyzed using various weighting configurations to identify a primary freight network of up to 27,000 centerline miles. Such scenarios may target a range of tonnage or commodity values which are transported, a range of truck traffic volumes, or a range of percentages of truck traffic on principal arterials. Scenarios will also analyze: ranges of service and access to significant ports of entry/exit for international trade; access to energy areas; access to population centers; and network connectivity that includes multimodal aspects of the freight transportation system, such as rail lines parallel to principal arterials that carry trailer-on-flatcar, container-on-flatcar, and doublestack payloads of typically high-value, time-sensitive cargo, and rail lines and waterways that carry significant bulk cargo.

The following table denotes the factors, data sources, and parameters that may be used for designation of the primary freight network:

Factor | Data source | Parameters
Origins/destinations of freight movements | FAF 3.4 http://faf.ornl.gov/fafweb/Extraction0.aspx | Connect top origins/destinations
Freight tonnage and value by highways | FAF 3.4 http://faf.ornl.gov/fafweb/Extraction0.aspx | Include top routes by weight of freight transported; Include top routes by value of commodity transported
Percentage of AADTT on principal arterials | HPMS 2010 AADTT http://www.fhwa.dot.gov/policyinformation/hpms.cfm | Include top routes by percentage of AADTT on principal arterials
AADTT on principal arterials | HPMS 2010 AADTT http://www.fhwa.dot.gov/policyinformation/hpms.cfm | Include top routes by AADTT on principal arterials
Land & maritime ports of entry | USACE U.S. Army Corps, Navigation Data Center, special request, October 2012 via BTS | Connect top water ports ranked by weight and values
| MARAD http://www.marad.dot.gov/documents/Container_by_US_Customs_Ports.xls | Connect top water ports ranked by number of TEUs
| BTS Transborder data http://www.bts.gov/programs/international/transborder/TBDR_QuickSearch.html | Connect top water ports ranked by weight and values
Access to energy exploration, development, installation or production areas | EIA (US Energy Information Admin.) http://www.eia.gov/pub/oil_gas/natural_gas/analysis_publications/maps/maps.htm#geodata | Include access to coal basins, top coal mines, coalbed methane fields, natural gas production locations, gas and oil plays (exploration areas)
| Pennwell Mapsearch data via Pipeline and Hazardous Materials Safety Administration (PHMSA) http://www.mapsearch.com | Include access to oil refineries and distribution centers
| Pennwell Mapsearch data via Pipeline and Hazardous Materials Safety Administration (PHMSA) http://www.mapsearch.com | Include access to biodiesel and ethanol plants
Population centers | 2010 Census http://www.census.gov/cgi-bin/geo/shapefiles2010/main | Connect top urbanized areas; Utilize Census Urbanized Area Boundary for geographic areas
Network connectivity | FAF 3.4 http://faf.ornl.gov/fafweb/Extraction0.aspx | In order to reduce gaps in the network, connect PFN segments to one another, to the Interstate System, or begin/end at access point

The following table denotes the other factors, data sources, and parameters that may be considered in the designation of the primary freight network:

Factor | Data source | Parameters
Major intermodal connectors | NHS Intermodal Connectors http://www.fhwa.dot.gov/planning/national_highway_system/intermodal_connectors/ | Connect major airport facilities, rail hubs, pipeline terminals, and port terminals
| FHWA research report Distribution centers and warehouse locations
Air ports of entry | FAA http://www.faa.gov/airports/planning_capacity/passenger_allcargo_stats/passenger/ | Connect top air ports of entry by landed weight
| U.S. Department of Commerce, U.S. Census Bureau, Foreign Trade Division, USA Trade Online, August 2012 | Connect top air ports of entry by value
For routes off the Interstate System, designation on the National Network of highways that can safely and efficiently accommodate the large vehicles authorized by the State | FAF 3.4 http://faf.ornl.gov/fafweb/Extraction0.aspx | Where there are parallel routes to consider, avoidance of routes on the National Network that are `restricted' or `low clearance'
For routes off the Interstate System, availability of truck facilities | FHWA research report | Where there are parallel routes as alternatives, consider presence of truck stops, rest areas, and weigh stations as factors

Primary Freight Network Additional Miles

Title 23 U.S.C. 167(d)(2) allows for up to 3,000 additional miles to be designated for the primary freight network that are critical to the future efficient movement of goods on the primary freight network, which may include existing or planned roads. In determining whether a route is critical to the future efficient movement of good on the primary freight network, the Secretary will consider the factors identified above for the designation of the initial 27,000 centerline miles as well as one or more additional factors, which may include, but are not limited to: supply chain/distribution network considerations including flows of key commodities; connections to major intermodal connectors; global and national economic and growth trends and growth areas; length of haul and its effect on tonnage on the primary freight network; designation on the National Network, as defined in 23 CFR part 658, without restrictions or clearance issues; availability of truck amenities; current or planned waterway, rail, port or intermodal terminal infrastructure developments that may impact future freight flows; freight bottlenecks; connection to international border crossings; and consideration of planned unbuilt highway facilities. Additional miles may also be reserved for future designation, as appropriate.

The following table denotes the factors and parameters that may be considered in designation of up to 3,000 additional miles to the primary freight network:

Factor | Parameters
National growth needs and growth areas, including routes used by commodities identified in the National Export Initiative | Target growth areas for additional mileage
Waterway, rail, port and intermodal terminal infrastructure developments | Consider future infrastructure impacts on freight patterns and capacity of other modes to carry additional freight
Changes to global/national economies and population centers | Consider future infrastructure impacts on freight patterns
Customs and border crossing areas | Consider current/future border crossing impacts on freight patterns
Planned unbuilt NHS facilities | Add in significant planned facilities -10 year window

Rural freight corridors

The State-designation of critical rural freight corridors is described in 23 U.S.C. 167(e), and provides that a State may designate a road within the borders of the State as a critical rural freight corridor if the road is a rural principal arterial roadway and has at least 25 percent of the AADT of the road measured in passenger vehicle equivalent units from trucks (FHWA vehicle class 8 to 13); provides access to energy exploration, development, installation or production areas; or connects the primary freight network, a roadway described above, or the Interstate System to facilities that handle more than 50,000 20-foot equivalent units per year, or 500,000 tons per year of bulk commodities. The designation of critical rural freight corridors will be performed by State DOTs and provided to DOT after designation of the primary freight network is complete. Further guidance and technical assistance for identifying these corridors will be provided. The FHWA will make an initial request for the States to identify rural freight corridors and will maintain route information for the rural freight corridors thereafter.

Planned Schedule

The following is the approximate schedule for designation of the national freight network. Key milestones include:

1. Publication of analysis results and draft designation of the primary freight network—February 2013

2. Guidance/technical assistance available to States to begin analysis of potential critical rural freight corridors—May 2013

3. Final designation of the primary freight network, including any additional mileage designated by DOT—October 2013

4. Request to States to identify critical rural freight corridors—October 2013

5. Initial designation of full national freight network (including primary freight network, rest of the Interstate system, critical rural freight corridors)—December 2013

Issued on: January 23, 2013.
Victor M. Mendez,
Administrator.

[FR Doc. 2013-02580 Filed 2-5-13; 8:45 am]

BILLING CODE 4910-22-P